DEPARTMENT OF THE INTERIOR

Bureau of Land Management

[16X LLCO910000 L16100000.DS0000 LXSISGPW0000]

Notice of Availability of the Gunnison Sage-Grouse Rangewide Draft Resource Management Plan Amendment and Draft Environmental Impact Statement, Colorado and Utah

AGENCY: Bureau of Land Management, Interior.

ACTION: Notice.

SUMMARY: In accordance with the National Environmental Policy Act of 1969, as amended (NEPA), and the Federal Land Policy and Management Act of 1976, as amended, the Bureau of Land Management (BLM) has prepared a Gunnison Sage-Grouse (GUSG) Rangewide Draft Resource Management Plan (RMP) Amendment and Draft Environmental Impact Statement (EIS) for the BLM field offices in southwest Colorado and southeast Utah, and by this notice is announcing the opening of the comment period.

DATES: To ensure that comments will be considered, the BLM must receive written comments on the Draft RMP Amendment/Draft EIS within 90 days of the date the Environmental Protection Agency publishes notice of the Draft RMP Amendment/Draft EIS in the Federal Register. The BLM will announce future meetings or hearings and any other public participation activities at least 15 days in advance through public notices, media releases and/or mailings.

ADDRESSES: You may submit comments related to the GUSG Rangewide Draft RMP Amendment/Draft EIS by any of the following methods:

• Website: http://1.usa.gov/1Uusw8C.

• Email: gusg_amend@blm.gov.

• Fax: 303-239-3699.

• Mail: Gunnison Sage-Grouse EIS, BLM Colorado State Office, 2850 Youngfield St., Lakewood, CO 80215.

Documents pertinent to this proposal may also be viewed at BLM offices in Colorado and Utah. For a list of the offices and their addresses, please see the SUPPLEMENTARY INFORMATION section below.

FOR FURTHER INFORMATION CONTACT: Roger Sayre, Project Manager, via telephone: 303-239-3709; at the BLM Colorado Southwest District Office (see address above); or via email: rsayre@blm.gov. You may contact Mr. Sayre to have your name added to our mailing list. Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: The BLM prepared the GUSG Rangewide Draft RMP Amendment/Draft EIS to address a range of alternatives focused on specific conservation measures across the range of the GUSG in southwest Colorado and southeast Utah. The Draft RMP Amendment/Draft EIS proposes to amend the current management decisions for resources as described in the following RMPs:

• Colorado

○ San Luis RMP (1991)

○ Gunnison RMP (1993)

○ San Juan/San Miguel RMP (1985) (currently under revision in the Uncompahgre RMP)

○ Uncompahgre Basin RMP (1989) (currently under revision in the Dominquez-Escalante National Conservation Area [NCA] RMP and Uncompahgre RMP)

○ Grand Junction RMP (1987) (Currently under revision in the Dominquez-Escalante NCA RMP)

○ Grand Junction RMP (2015)

○ Gunnison Gorge NCA RMP (2004)

○ Canyons of the Ancients National Monument RMP (2010)

○ Tres Rios RMP (2015)

• Utah

○ Moab RMP (2008)

○ Monticello RMP (2008)

The planning area includes approximately 2.1 million acres of BLM, National Park Service, U.S. Forest Service, State, local and private lands located in southwestern Colorado and southeastern Utah within 12 counties (Chaffee, Delta, Dolores, Gunnison, Hinsdale, Mesa, Montrose, Ouray, Saguache and San Miguel counties in Colorado; and Grand and San Juan counties in Utah). Within the decision area, the BLM administers approximately 740,000 surface acres and approximately 1.3 million acres of Federal sub-surface mineral estate. Within the decision area, the BLM manages 623,000 acres of GUSG habitat, representing 37 percent of the habitat across the species range. Surface and subsurface management decisions made as a result of this Draft RMP Amendment/Draft EIS will apply only to the BLM-administered lands and minerals in the decision area.

The Draft RMP Amendment/Draft EIS analyzes management actions applicable to three categories of BLM-administered lands and Federal subsurface: Occupied Habitat, Unoccupied Habitat, and Non-Habitat.

Occupied Habitat:

• Occupied critical habitat as designated by the Fish and Wildlife Service (FWS);

• Vacant/unknown habitat delineated by Colorado Parks and Wildlife that FWS did not designate as occupied critical habitat;

• Habitat within the Poncha Pass area; and

• Specific areas the FWS excluded from the critical habitat designation coinciding with Federal subsurface estate.

Unoccupied Habitat: Unoccupied critical habitat as designated by the FWS.

Non-Habitat: Non-GUSG habitat adjacent to Occupied or Unoccupied Habitat within 4 miles of a lek, where certain activities might disrupt GUSG within the adjacent habitat areas.

The formal public scoping process for the RMP Amendment/EIS began on July 18, 2014, with the publication of a Notice of Intent in the Federal Register (79 FR 42033), and ended on August 22, 2014. The BLM held four public scoping meetings in August 2014. The BLM used public scoping comments to help identify planning issues that directed the formulation of alternatives and framed the scope of analysis in the Draft RMP Amendment/Draft EIS. The BLM also used the scoping process to introduce the public to preliminary planning criteria, which set limits on the scope of the Draft RMP Amendment/Draft EIS.

Major issues the Draft RMP Amendment/Draft EIS considers include special status species management (specifically for the GUSG), energy and mineral development, lands and realty, travel and transportation, recreation, fire management and range management.

The Draft RMP Amendment/Draft EIS evaluates four alternatives in detail, including the No Action Alternative (Alternative A) and three action alternatives (Alternatives B, C and D). All action alternatives require compliance with the mitigation hierarchy of first, avoiding impacts to the maximum extent compatible with the goals of the alternative; second, minimizing any impacts that are not avoided; and third, providing compensatory mitigation to offset unavoidable impacts. All mitigation requires a net conservation gain. Alternative A, the No Action Alternative, would continue management of public lands and resources under current BLM RMPs, as previously amended. Alternative B primarily focuses on habitat protection and avoiding impacts to GUSG and GUSG habitat whenever and wherever possible. Alternative C focuses on minimizing and mitigating impacts to GUSG habitat. Alternative D, the Preferred Alternative, includes two sub-alternatives. Sub-alternative D1 adapts and expands on the BLM Gunnison Basin Candidate Conservation Agreement (2013) to manage the Gunnison Basin GUSG population. Sub-alternative D2 includes management actions developed and tailored for the satellite (non-Gunnison Basin) populations. Identification of a Preferred Alternative does not represent final agency decision, and the Proposed and Approved RMP Amendments may reflect changes or adjustments based on public comments, new information, or changes in BLM policies or priorities. The Proposed and Approved RMP Amendments may include objectives and actions described in the other analyzed alternatives or otherwise within the spectrum of alternatives analyzed. Pursuant to 43 CFR 1610.7-2(b), this notice announces a concurrent public comment period on proposed Areas of Critical Environmental Concern (ACECs). BLM determined that four potential ACECs met the criteria for relevance and importance, some of which overlapped. The Draft RMP Amendment/Draft EIS includes a range of alternatives for ACECs from no designations to designation of a single proposed ACEC that encompasses all four potential ACECs. In particular, Alternative B analyzes an ACEC for all Occupied and Unoccupied Habitat (the Sage-Grouse Habitat ACEC), which encompasses all four potential ACECs that were evaluated. This proposed ACEC covers approximately 623,000 acres and meets the relevance and importance criteria because it includes more than locally significant qualities for GUSG, which are threatened and warrant protection. If the Sage-Grouse Habitat ACEC is formally designated, all resource management actions in Alternative B would be applied. The following are the overarching use allocations: closed to fluid mineral leasing; designated as a right-of-way exclusion area; limited to travel on existing or designated roads and trails; and recommended for withdrawal from mineral entry.

Please note that public comments and information submitted including names, street addresses and email addresses of persons who submit comments will be available for public review and disclosure at the above addresses during regular business hours (8 a.m. to 4 p.m.), Monday through Friday, except holidays.

In addition to the Web site listed above, documents pertinent to this proposal may be examined at:

• BLM Colorado State Office (see ADDRESSES above)

• BLM Colorado Southwest District Office, 2465 South Townsend Ave., Montrose, CO 81401

• BLM Colorado Grand Junction Field Office, 2815 H Road, Grand Junction, CO 81506

• BLM Colorado Gunnison Field Office, 210 West Spencer Ave., Gunnison, CO 81230

• BLM Colorado San Luis Valley Field Office, 1313 E. Highway 160, Monte Vista, CO 81144

• BLM Colorado Tres Rios Field Office, 29211 Highway 184, Dolores, CO 81323

• BLM Utah State Office, 440 West 200 South, Suite 500, Salt Lake City, UT 84101

• BLM Utah Canyon County District Office, 82 East Dogwood, Moab, UT 84532

• BLM Utah Monticello Field Office, 365 N. Main St., Monticello, UT 84535.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10, 43 CFR 1610.2

Ruth Welch,
BLM Colorado State Director.

[FR Doc. 2016-19100 Filed 8-11-16; 8:45 am]

BILLING CODE 4310-JB-P